DEPARTMENT OF COMMERCE

National Oceanic and Atmospheric Administration

RIN 0648-XU61

Marine Mammals; File No. 15153

AGENCY: National Marine Fisheries Service (NMFS), National Oceanic and Atmospheric Administration (NOAA), Commerce.

ACTION: Notice; issuance of permit.

SUMMARY: Notice is hereby given that Dolphin Quest Hawaii, 69-425 Waikoloa Beach Drive, Waikoloa, HI 96738 has been issued a permit to import two bottlenose dolphins (Tursiops truncatus) for public display.

ADDRESSES: The permit and related documents are available for review upon written request or by appointment in the following office(s):

Permits, Conservation and Education Division, Office of Protected Resources, NMFS, 1315 East-West Highway, Room 13705, Silver Spring, MD 20910; phone (301) 713-2289; fax (301) 713-0376; and

Pacific Islands Region, NMFS, 1601 Kapiolani Blvd., Rm 1110, Honolulu, HI 96814-4700; phone (808) 944-2200; fax (808) 973-2941.

FOR FURTHER INFORMATION CONTACT: Jennifer Skidmore or Kristy Beard, (301) 713-2289.

SUPPLEMENTARY INFORMATION: On December 2, 2009, notice was published in the Federal Register (74 FR 63120) that a request for a public display permit to import two male bottlenose dolphins from Dolphin Quest in Hamilton, HM FX, Bermuda to Dolphin Quest Hawaii, Waikoloa, HI, had been submitted by the above-named organization. The requested permit has been issued under the authority of the Marine Mammal Protection Act of 1972, as amended (16 U.S.C. 1361 et seq.), and the regulations governing the taking and importing of marine mammals (50 CFR part 216).

In compliance with the National Environmental Policy Act of 1969 (42 U.S.C. 4321 et seq.), a final determination has been made that the activity proposed is categorically excluded from the requirement to prepare an environmental assessment or environmental impact statement.

Dated: February 23, 2010.
Tammy C. Adams,
Acting Chief, Permits, Conservation and Education Division, Office of Protected Resources, National Marine Fisheries Service.

[FR Doc. 2010-4189 Filed 2-26-10; 8:45 am]

BILLING CODE 3510-22-S